DEPARTMENT OF THE INTERIOR

National Park Service

[NPS-WASO-NAGPRA-NPS0027459; PPWOCRADN0-PCU00RP14.R50000]

Notice of Inventory Completion: University of California Berkeley, Berkeley, CA

AGENCY: National Park Service, Interior.

ACTION: Notice.

SUMMARY: The University of California, Berkeley, has completed an inventory of human remains and an associated funerary object, in consultation with the appropriate Indian Tribes or Native Hawaiian organizations, and has determined that there is a cultural affiliation between the human remains and associated funerary object and present-day Indian Tribes or Native Hawaiian organizations. Lineal descendants or representatives of any Indian Tribe or Native Hawaiian organization not identified in this notice that wish to request transfer of control of these human remains and associated funerary object should submit a written request to the Phoebe A. Hearst Museum of Anthropology. If no additional requestors come forward, transfer of control of the human remains and associated funerary object to the lineal descendants, Indian Tribes, or Native Hawaiian organizations stated in this notice may proceed.

DATES: Lineal descendants or representatives of any Indian Tribe or Native Hawaiian organization not identified in this notice that wish to request transfer of control of these human remains and associated funerary object should submit a written request with information in support of the request to the Phoebe A. Hearst Museum of Anthropology at the address in this notice by May 24, 2019.

ADDRESSES: Jordan Jacobs, Phoebe A. Hearst Museum of Anthropology, University of California Berkeley, 103 Kroeber Hall, Berkeley, CA 94720-3712, telephone (510) 643-8230, email pahma-repatriation@berkeley.edu.

SUPPLEMENTARY INFORMATION: Notice is here given in accordance with the Native American Graves Protection and Repatriation Act (NAGPRA), 25 U.S.C. 3003, of the completion of an inventory of human remains and associated funerary object under the control of the Phoebe A. Hearst Museum of Anthropology, University of California, Berkeley, CA. The human remains and associated funerary object were removed from San Nicolas Island, Ventura County, CA.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by Phoebe A. Hearst Museum of Anthropology, University of California, Berkeley professional staff in consultation with representatives of the Pala Band of Mission Indians (previously listed as the Pala Band of Luiseno Mission Indians of the Pala Reservation, California); Pauma Band of Luiseno Mission Indians of the Pauma & Yuima Reservation, California; Pechanga Band of Luiseno Mission Indians of the Pechanga Reservation, California; Rincon Band of Luiseno Mission Indians of the Rincon Reservation, California; Santa Ynez Band of Chumash Mission Indians of the Santa Ynez Reservation, California; and the Soboba Band of Luiseno Indians, California; hereafter referred to as “The Tribes.”

History and Description of the Remains

In 1901, two sets of human remains were removed from an unknown location on San Nicolas Island, Ventura County, CA, by Philip Mills Jones, who was under contract by Phoebe Apperson Hearst to collect archeological material from southern California. The human remains were subsequently donated to the University of California by Phoebe Apperson Hearst in 1901. No known individuals were identified. No associated funerary objects are present.

Between 1897 and 1902, 24 sets of human remains were removed from San Nicolas Island, Ventura County, CA, by Mrs. Blanche Trask and subsequently donated to the museum in 1902. No known individuals were identified. The one associated funerary object is an abalone shell.

An examination of the human remains by officials of the Phoebe A. Hearst Museum of Anthropology have determined the individuals to be of Native American origin. Archeological data, oral history, material culture, and religious cultural practices indicate that the Santa Ynez Band of Chumash Mission Indians of the Santa Ynez Reservation, California, can trace their ancestry back to the people who previously occupied the Channel Islands. Linguistic and religious evidence together with evidence from the oral traditions indicate that the Pechanga Band of Luiseño Mission Indians of the Pechanga Reservation, California, can trace their ancestry back to the people who previously occupied the Channel Islands.

Determinations Made by the University of California, Berkeley

Officials of the University of California, Berkeley have determined that:

• Pursuant to 25 U.S.C. 3001(9), the human remains described in this notice represent 26 sets of human remains of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the Santa Ynez Band of Chumash Mission Indians of the Santa Ynez Reservation, California, and the Pechanga Band of Luiseño Mission Indians of the Pechanga Reservation, California.

Additional Requestors and Disposition

Lineal descendants or representatives of any Indian Tribe or Native Hawaiian organization not identified in this notice that wish to request transfer of control of these human remains and associated funerary object should submit a written request with information in support of the request to Jordan Jacobs, Phoebe A. Hearst Museum of Anthropology, University of California Berkeley, 103 Kroeber Hall, Berkeley, CA 94720-3712, telephone (510) 643-8230, email pahma-repatriation@berkeley.edu, by May 24, 2019. After that date, if no additional requestors have come forward, transfer of control of the human remains and associated funerary object to the Santa Ynez Band of Chumash Mission Indians of the Santa Ynez Reservation, California, and the Pechanga Band of Luiseño Mission Indians of the Pechanga Reservation, California, may proceed.

The Phoebe A. Hearst Museum of Anthropology is responsible for notifying The Tribes that this notice has been published.

Dated: March 11, 2019.
Melanie O'Brien,
Manager, National NAGPRA Program.

[FR Doc. 2019-08232 Filed 4-23-19; 8:45 am]

BILLING CODE 4312-52-P